NATIONAL AERONAUTICS AND SPACE ADMINISTRATION

[Notice (11-042)]

Re-Establishment of the National Space-Based Positioning, Navigation, and Timing (PNT) Advisory Board

AGENCY: National Aeronautics and Space Administration (NASA).

ACTION: Notice of advisory committee re-establishment.

SUMMARY: Notice is hereby given that in accordance with the President's 2004 U.S. Space-Based PNT Policy established on December 8, 2004, and continuing and consistent Executive Branch PNT policy objectives since that time, it has been determined that an advisory board comprised of experts from outside the United States Government is necessary and in the public interest. Accordingly, NASA is re-establishing the National Space-Based PNT Advisory Board. The previous charter for the National Space-Based PNT Advisory Board expired on January 26, 2011.

FOR FURTHER INFORMATION CONTACT: Mr. James J. Miller, Designated Federal Officer and Deputy Director of Policy and Strategic Communications, Office of Space Communications and Navigation, National Aeronautics and Space Administration, Washington, DC 20546, telephone 202-358-4417, jj.miller@nasa.gov.

SUPPLEMENTARY INFORMATION: The National Space-Based PNT Advisory Board will provide advice on U.S. space-based PNT policy, planning, program management, and funding profiles in relation to the current state of national and international space-based PNT services. The National Space-Based PNT Advisory Board will function solely as an advisory body and will comply fully with the provisions of the Federal Advisory Committee Act (FACA). Copies of the charter will be filed with the General Services Administration, the appropriate Committees of the Congress, and with the Library of Congress.

P. Diane Rausch,
Advisory Committee Management Officer, National Aeronautics and Space Administration.

[FR Doc. 2011-9872 Filed 4-22-11; 8:45 am]

BILLING CODE 7510-13-P